DEPARTMENT OF THE INTERIOR

National Park Service

[NPS-WASO-NAGPRA-21132; PPWOCRADN0-PCU00RP14.R50000]

Notice of Inventory Completion: U.S. Department of the Interior, National Park Service, Canyon de Chelly National Monument, Chinle, AZ

AGENCY: National Park Service, Interior.

ACTION: Notice.

SUMMARY: The U.S. Department of the Interior, National Park Service, Canyon de Chelly National Monument has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Canyon de Chelly National Monument. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Canyon de Chelly National Monument at the address in this notice by July 1, 2016.

ADDRESSES: Lyn Carranza, Superintendent, Canyon de Chelly National Monument, P.O. Box 588, Chinle, AZ 86503, telephone (928) 674-5500 ext. 224, email lyn_carranza@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Canyon de Chelly National Monument, Chinle, AZ. The human remains and associated funerary objects were removed from a site in Apache County, AZ.

This notice is published as part of the National Park Service's administrative responsibilities under NAGPRA, 25 U.S.C. 3003(d)(3). The determinations in this notice are the sole responsibility of the Superintendent, Canyon de Chelly National Monument.

Consultation

A detailed assessment of the human remains was made by Canyon de Chelly National Monument professional staff in consultation with representatives of the Apache Tribe of Oklahoma; Fort McDowell Yavapai Nation, Arizona; Fort Sill Apache Tribe of Oklahoma; Hopi Tribe of Arizona; Jicarilla Apache Nation, New Mexico; Kaibab Band of Paiute Indians of the Kaibab Indian Reservation, Arizona; Mescalero Apache Tribe of the Mescalero Reservation, New Mexico; Navajo Nation, Arizona, New Mexico & Utah; Pueblo of Acoma, New Mexico; Pueblo of Jemez, New Mexico; Pueblo of Laguna, New Mexico; Pueblo of Nambe, New Mexico; Pueblo of Pojoaque, New Mexico; Pueblo of San Ildefonso, New Mexico; Pueblo of Santa Ana, New Mexico; Pueblo of Santa Clara, New Mexico; Pueblo of Taos, New Mexico; Pueblo of Tesuque, New Mexico; San Carlos Apache Tribe of the San Carlos Reservation, Arizona; Southern Ute Indian Tribe of the Southern Ute Reservation, Colorado; Ute Mountain Ute Tribe (previously listed as the Ute Mountain Tribe of the Ute Mountain Reservation, Colorado, New Mexico & Utah); White Mountain Apache Tribe of the Fort Apache Reservation, Arizona; Yavapai-Apache Nation of the Camp Verde Indian Reservation, Arizona; and Zuni Tribe of the Zuni Reservation, New Mexico (hereafter referred to as “The Consulted Tribes”).

The following tribes were invited to consult but did not participate in the face-to-face consultation meeting: Kewa Pueblo, New Mexico (previously listed as the Pueblo of Santo Domingo); Ohkay Owingeh, New Mexico (previously listed as the Pueblo of San Juan); Pueblo of Cochiti, New Mexico; Pueblo of Isleta, New Mexico; Pueblo of Picuris, New Mexico; Pueblo of San Felipe, New Mexico; Pueblo of Sandia, New Mexico; Pueblo of Zia, New Mexico (hereafter referred to as “The Invited Tribes”).

History and Description of the Remains

Canyon de Chelly National Monument was established in 1931 on lands that were then, and continue to be, held in trust by the United States for the Navajo Nation, Arizona, New Mexico & Utah.

Between 1970 and 1973, human remains representing, at minimum, one individual were removed from Antelope House in Apache County, AZ, during a National Park Service sponsored excavation. No known individuals were identified. The 12 associated funerary objects are 1 bead, 1 set of unworked hair, 8 textiles, 1 dress, and 1 blanket. The funerary objects are consistent with historic Navajo burials.

Determinations Made by Canyon de Chelly National Monument

Officials of Canyon de Chelly National Monument have determined that:

• Pursuant to 25 U.S.C. 3001(9), the human remains described in this notice represent the physical remains of one individual of Native American ancestry.

• Pursuant to 25 U.S.C. 3001(3)(A), the 12 objects described in this notice are reasonably believed to have been placed with or near individual human remains at the time of death or later as part of the death rite or ceremony.

• Pursuant to 25 U.S.C. 3001(2), there is a relationship of shared group identity that can be reasonably traced between the Native American human remains and associated funerary objects and the Navajo Nation, Arizona, New Mexico & Utah.

Additional Requestors and Disposition

Lineal descendants or representatives of any Indian tribe or Native Hawaiian organization not identified in this notice that wish to request transfer of control of these human remains and associated funerary objects should submit a written request with information in support of the request to Lyn Carranza, Superintendent, Canyon de Chelly National Monument, P.O. Box 588, Chinle, AZ 86503, telephone (928) 674-5500 ext. 224, email lyn_carranza@nps.gov, by July 1, 2016. After that date, if no additional requestors have come forward, transfer of control of the human remains and associated funerary objects to the Navajo Nation, Arizona, New Mexico & Utah may proceed.

Canyon de Chelly National Monument is responsible for notifying The Consulted Tribes and The Invited Tribes that this notice has been published.

Dated: May 20, 2016.
Melanie O'Brien,
Manager, National NAGPRA Program.

[FR Doc. 2016-12749 Filed 5-31-16; 8:45 am]

BILLING CODE 4312-50-P